DEPARTMENT OF ENERGY

Federal Energy Regulatory Commission

Combined Notice of Filings #1

Take notice that the Commission received the following electric corporate filings:

Docket Numbers: EC21-37-000.

Applicants: Harry Allen Solar Energy LLC, AEP Renewables, LLC.

Description: Application for Authorization Under Section 203 of the Federal Power Act of Harry Allen Solar Energy LLC, et al.

Filed Date: 12/21/20.

Accession Number: 20201221-5412.

Comments Due: 5 p.m. ET 1/11/21.

Take notice that the Commission received the following exempt wholesale generator filings:

Docket Numbers: EG21-57-000.

Applicants: HO Clarke II, LLC.

Description: Notice of Self-Certification of Exempt Wholesale Generator Status of HO Clarke II, LLC.

Filed Date: 12/21/20.

Accession Number: 20201221-5372.

Comments Due: 5 p.m. ET 1/11/21.

Docket Numbers: EG21-58-000.

Applicants: Indiana Crossroads Wind Farm LLC.

Description: Notice of Self-Certification of Exempt Wholesale Generator Status of Indiana Crossroads Wind Farm LLC.

Filed Date: 12/21/20.

Accession Number: 20201221-5421.

Comments Due: 5 p.m. ET 1/11/21.

Docket Numbers: EG21-59-000.

Applicants: Wallingford Renewable Energy LLC.

Description: Notice of Self-Certification of Exempt Wholesale Generator Status of Wallingford Renewable Energy LLC.

Filed Date: 12/22/20.

Accession Number: 20201222-5088.

Comments Due: 5 p.m. ET 1/12/21.

Docket Numbers: EG21-60-000.

Applicants: Topaz II, LLC.

Description: Notice of Self-Certification of Exempt Wholesale Generator Status of Topaz II, LLC.

Filed Date: 12/22/20.

Accession Number: 20201222-5099.

Comments Due: 5 p.m. ET 1/12/21.

Docket Numbers: EG21-61-000.

Applicants: Braes Bayou Generating, LLC.

Description: Notice of Self-Certification of Exempt Wholesale Generator Status of Braes Bayou Generating, LLC.

Filed Date: 12/22/20.

Accession Number: 20201222-5100.

Comments Due: 5 p.m. ET 1/12/21.

Take notice that the Commission received the following electric rate filings:

Docket Numbers: ER10-2566-012; ER13-2322-008; ER15-190-015 ER18-1343-008; ER19-1819-003; ER19-1820-003 ER19-1821-003.

Applicants: Duke Energy Carolinas, LLC, Broad River Solar, LLC, Carolina Solar Power, LLC, Speedway Solar NC, LLC, Stony Knoll Solar, LLC, Duke Energy Progress, LLC, Duke Energy Renewable Services, LLC.

Description: Notice of Change in Status of the Duke MBR Sellers.

Filed Date: 12/18/20.

Accession Number: 20201218-5376.

Comments Due: 5 p.m. ET 1/8/21.

Docket Numbers: ER10-3145-013; ER10-1728-014; ER10-1800-014 ER10-3116-013; ER10-3120-013; ER10-3128-013 ER10-3136-013; ER11-2036-014; ER11-2701-015 ER13-1544-011; ER16-930-008; ER19-1179-003 ER19-1473-003; ER19-1474-003; ER19-1597-003 ER20-1620-001; ER20-1629-002.

Applicants: AES Alamitos, LLC, AES Alamitos Energy, LLC, AES Energy Storage, LLC, AES ES Alamitos, LLC, AES ES Gilbert, LLC, AES ES Tait, LLC, AES Huntington Beach, L.L.C., AES Huntington Beach Energy, LLC, AES Integrated Energy, LLC, AES Laurel Mountain, LLC, AES Ohio Generation, LLC, AES Redondo Beach, L.L.C., AES Solutions Management, LLC, Indianapolis Power & Light Company, Mountain View Power Partners, LLC, Mountain View Power Partners IV, LLC, The Dayton Power and Light Company.

Description: Triennial Market Power Analysis for Central Region of AES MBR Affiliates.

Filed Date: 12/18/20.

Accession Number: 20201218-5381.

Comments Due: 5 p.m. ET 2/16/21.

Docket Numbers: ER10-3254-004.

Applicants: Cooperative Energy Incorporated (An Electric Membership Corporation).

Description: Updated Market Power Analysis of Cooperative Energy Incorporated (An Electric Membership Corporation).

Filed Date: 12/21/20.

Accession Number: 20201221-5266.

Comments Due: 5 p.m. ET 2/19/21.

Docket Numbers: ER13-1430-009; ER13-1561-009.

Applicants: Arlington Valley Solar Energy II, LLC, Centinela Solar Energy, LLC.

Description: Notice of Non-Material Change in Status of Arlington Valley Solar Energy II, LLC et al.

Filed Date: 12/18/20.

Accession Number: 20201218-5377.

Comments Due: 5 p.m. ET 1/8/21.

Docket Numbers: ER15-190-016; ER10-2034-007.

Applicants: Duke Energy Renewable Services, LLC, Duke Energy Indiana, LLC.

Description: Triennial Market Power Analysis for Central Region of Duke Companies.

Filed Date: 12/18/20.

Accession Number: 20201218-5380.

Comments Due: 5 p.m. ET 2/16/21.

Docket Numbers: ER16-1404-005.

Applicants: New York Independent System Operator, Inc.

Description: Compliance filing: NYISO Compliance: BSM Self Supply February 2020 Order to be effective 5/1/2020.

Filed Date: 12/22/20.

Accession Number: 20201222-5000.

Comments Due: 5 p.m. ET 1/12/21.

Docket Numbers: ER20-2740-003.

Applicants: Hickory Run Energy, LLC.

Description: Report Filing: Refund Report to be effective N/A.

Filed Date: 12/22/20.

Accession Number: 20201222-5016.

Comments Due: 5 p.m. ET 1/12/21.

Docket Numbers: ER20-2740-004.

Applicants: Hickory Run Energy, LLC.

Description: Compliance filing: Compliance Filing to be effective 5/12/2020.

Filed Date: 12/22/20.

Accession Number: 20201222-5015.

Comments Due: 5 p.m. ET 1/12/21.

Docket Numbers: ER20-2761-001.

Applicants: Southwest Power Pool, Inc.

Description: Report Filing: 1628R18 WFEC NITSA NOA—Supplemental Information to be effective N/A.

Filed Date: 12/22/20.

Accession Number: 20201222-5030.

Comments Due: 5 p.m. ET 1/12/21.

Docket Numbers: ER21-44-001.

Applicants: Altavista Solar, LLC.

Description: Tariff Amendment: Information Request Response (ER21-44-) to be effective 10/15/2020.

Filed Date: 12/22/20.

Accession Number: 20201222-5035.

Comments Due: 5 p.m. ET 1/12/21.

Docket Numbers: ER21-317-001.

Applicants: PJM Interconnection, L.L.C.

Description: Tariff Amendment: Amendment to ER21-317-000; WMPA SA No. 5845; Queue No. AF1-300 to be effective 10/5/2020.

Filed Date: 12/21/20.

Accession Number: 20201221-5244.

Comments Due: 5 p.m. ET 1/11/21.

Docket Numbers: ER21-402-002.

Applicants: Midcontinent Independent System Operator, Inc.

Description: Tariff Amendment: 2020-12-21_Shared Network Upgrades 2nd Amendment Filing to be effective 2/1/2021.

Filed Date: 12/21/20.

Accession Number: 20201221-5240.

Comments Due: 5 p.m. ET 1/11/21.

Docket Numbers: ER21-696-000.

Applicants: Algonquin Power Sanger LLC.

Description: § 205(d) Rate Filing: Market-Based Rate Tariff Revisions to be effective 12/22/2020.

Filed Date: 12/21/20.

Accession Number: 20201221-5216.

Comments Due: 5 p.m. ET 1/11/21.

Docket Numbers: ER21-697-000.

Applicants: Algonquin Energy Services Inc.

Description: § 205(d) Rate Filing: Market-Based Tariff Revisions to be effective 12/22/2020.

Filed Date: 12/21/20.

Accession Number: 20201221-5221.

Comments Due: 5 p.m. ET 1/11/21.

Docket Numbers: ER21-698-000.

Applicants: Algonquin SKIC 10 Solar, LLC.

Description: § 205(d) Rate Filing: Revisions to Market-Based Rate Tariff to be effective 12/22/2020.

Filed Date: 12/21/20.

Accession Number: 20201221-5223.

Comments Due: 5 p.m. ET 1/11/21.

Docket Numbers: ER21-699-000.

Applicants: Algonquin SKIC 20 Solar, LLC.

Description: § 205(d) Rate Filing: Revisions to Market-Based Rate Tariff to be effective 12/22/2020.

Filed Date: 12/21/20.

Accession Number: 20201221-5224.

Comments Due: 5 p.m. ET 1/11/21.

Docket Numbers: ER21-700-000.

Applicants: Midcontinent Independent System Operator, Inc.

Description: § 205(d) Rate Filing: 2020-12-21_Tariff revisions to improve Emergency Pricing to be effective 6/1/2021.

Filed Date: 12/21/20.

Accession Number: 20201221-5242.

Comments Due: 5 p.m. ET 1/11/21.

Docket Numbers: ER21-701-000.

Applicants: Avista Corporation.

Description: Tariff Cancellation: Avista Corp Cancellation Dry Gulch Construction Agreement to be effective 12/22/2020.

Filed Date: 12/21/20.

Accession Number: 20201221-5277.

Comments Due: 5 p.m. ET 1/11/21.

Docket Numbers: ER21-702-000.

Applicants: Golden Springs Development Company LLC.

Description: Appeal for Relief from Assessed Penalty of Electric of Golden Springs Development Company LLC.

Filed Date: 12/17/20.

Accession Number: 20201217-5309.

Comments Due: 5 p.m. ET 1/7/21.

Docket Numbers: ER21-703-000.

Applicants: Golden Springs Development Company LLC.

Description: Appeal for Relief from Assessed Penalty of Electric of Golden Springs Development Company LLC.

Filed Date: 12/17/20.

Accession Number: 20201217-5310.

Comments Due: 5 p.m. ET 1/7/21.

Docket Numbers: ER21-705-000.

Applicants: PJM Interconnection, L.L.C.

Description: Tariff Cancellation: Notice of Cancellation of WMPA, SA No. 5313, Queue No. AC2-101 RE: Withdrawal to be effective 2/1/2021.

Filed Date: 12/22/20.

Accession Number: 20201222-5012.

Comments Due: 5 p.m. ET 1/12/21.

Docket Numbers: ER21-706-000.

Applicants: Paulsboro Refining Company LLC.

Description: Baseline eTariff Filing: Paulsboro Refining Company LLC Market Based Rates Tariff Application to be effective 1/21/2021.

Filed Date: 12/22/20.

Accession Number: 20201222-5014.

Comments Due: 5 p.m. ET 1/12/21.

Docket Numbers: ER21-708-000.

Applicants: PJM Interconnection, L.L.C.

Description: § 205(d) Rate Filing: Correction to Original ISA, SA No. 5621; Queue No. AF1-195 (amend) to be effective 3/10/2020.

Filed Date: 12/22/20.

Accession Number: 20201222-5027.

Comments Due: 5 p.m. ET 1/12/21.

Docket Numbers: ER21-709-000.

Applicants: Midcontinent Independent System Operator, Inc., American Transmission Company LLC.

Description: § 205(d) Rate Filing: 2020-12-22_ATCLLC Depreciation Rate Filing to be effective 3/1/2021.

Filed Date: 12/22/20.

Accession Number: 20201222-5033.

Comments Due: 5 p.m. ET 1/12/21.

Docket Numbers: ER21-710-000.

Applicants: Midcontinent Independent System Operator, Inc., Northern Indiana Public Service Company.

Description: § 205(d) Rate Filing: 2020-12-22_NIPSCO Att GG True-Up Procedures Filing to be effective 4/18/2018.

Filed Date: 12/22/20.

Accession Number: 20201222-5034.

Comments Due: 5 p.m. ET 1/12/21.

Docket Numbers: ER21-711-000.

Applicants: PacifiCorp.

Description: § 205(d) Rate Filing: OATT Revised Attachment H-1 (Rev Dep Rates) to be effective 1/1/2021.

Filed Date: 12/22/20.

Accession Number: 20201222-5045.

Comments Due: 5 p.m. ET 1/12/21.

Docket Numbers: ER21-713-000.

Applicants: Midcontinent Independent System Operator, Inc.

Description: § 205(d) Rate Filing: 2020-12-22_SA 3501 Termination of METC-MEC North GIA (J937) to be effective 2/21/2021.

Filed Date: 12/22/20.

Accession Number: 20201222-5067.

Comments Due: 5 p.m. ET 1/12/21.

Docket Numbers: ER21-714-000.

Applicants: Indiana Crossroads Wind Farm LLC.

Description: Baseline eTariff Filing: Market-Based Rate Application to be effective 2/21/2021.

Filed Date: 12/22/20.

Accession Number: 20201222-5086.

Comments Due: 5 p.m. ET 1/12/21.

Docket Numbers: ER21-715-000.

Applicants: Florida Power & Light Company.

Description: § 205(d) Rate Filing: FPL & LCEC New Delivery Point Exhibit for Network Operating Agreement to be effective 11/25/2020.

Filed Date: 12/22/20.

Accession Number: 20201222-5115.

Comments Due: 5 p.m. ET 1/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2020.
Kimberly D. Bose,
Secretary.

[FR Doc. 2020-28836 Filed 12-29-20; 8:45 am]

BILLING CODE 6717-01-P